ENVIRONMENTAL PROTECTION AGENCY

[FRL-8717-1]

NPDES Program Management Information Rule

AGENCY: Environmental Protection Agency.

ACTION: Notice of meeting.

SUMMARY: The United States Environmental Protection Agency (EPA) gives notice of a meeting to discuss the NPDES Program Management Information Rule. This meeting will be a session at which EPA will present possible options for the proposed rule. The purpose of this meeting is to give interested parties an opportunity to discuss the proposed rule options and to provide EPA comments on the presented options.

DATES: The meeting will be held on Tuesday, October 14, 2008 from 1 p.m. to 5 p.m. EST.

ADDRESSES: The meeting location is EPA East Room 1153, 1201 Constitution Ave., NW., Washington, DC 20460. Participants may call into the meeting at 1-866-212-1875, access code: 835325#.

FOR FURTHER INFORMATION CONTACT: Lauren Spath at 202-565-0016 or spath.lauren@epa.gov. Please reply by September 30, 2008 if you plan on calling in or attending this meeting.

SUPPLEMENTARY INFORMATION: This meeting will be open to all stakeholders interested in the rule EPA is developing to gather NPDES program management information. After considerable dialogue with NPDES authorized states, the Association of State and Interstate Water Pollution Control Administrators, and the Environmental Council of States, EPA decided to develop a proposed rulemaking in order to ensure that the site specific information essential to manage the national NPDES program, thereby ensuring protection of public health and the environment, is available on a nationally consistent, timely, accurate, and complete basis.

Dated: September 10, 2008.
Lisa Lund,
Director, Office of Compliance.

[FR Doc. E8-21725 Filed 9-16-08; 8:45 am]

BILLING CODE 6560-50-P